DEPARTMENT OF AGRICULTURE

Forest Service

36 CFR Part 251

RIN 0596-AD36

Land Uses; Special Uses; Procedures for Operating Plans and Agreements for Powerline Facility Maintenance and Vegetation Management Within and Abutting the Linear Boundary of a Special Use Authorization for a Powerline Facility; Correction

AGENCY: Forest Service, USDA.

ACTION: Final rule; correction.

SUMMARY: The U.S. Department of Agriculture is correcting a final rule that appeared in the Federal Register on July 10, 2020. The final rule amends existing special use regulations to implement section 512 of the Federal Land Policy and Management Act, as added by section 211 of division O, Consolidated Appropriations Act, 2018 (hereinafter “section 512”). Section 512 governs the development and approval of operating plans and agreements for maintenance and vegetation management of electric transmission and distribution line facilities (powerline facilities) on National Forest System (NFS) lands inside the linear boundary of special use authorizations for powerline facilities and on abutting NFS lands to remove or prune hazard trees.

DATES: Effective August 10, 2020.

FOR FURTHER INFORMATION CONTACT: Reggie Woodruff, Energy Program Manager, Lands and Realty Management, 202-205-1196 or reginal.woodruff@usda.gov.

SUPPLEMENTARY INFORMATION: In FR doc. 2020-13999 appearing on pages 41387-41394 in the Federal Register of Friday, July 10, 2020, the following corrections are made:

§ 251.51 [Corrected]

1. On page 41392, in the first column, in § 251.51, in amendment 2, the instruction is corrected to read as follows:

2. Amend § 251.51 by:

a. Adding in alphabetical order the definition of “Hazard tree”;

b. Revising the definition of “Linear right-of-way”; and

c. Adding in alphabetical order the definitions of “Maintenance,” “Maximum operating sag,” “Minimum vegetation clearance distance,” “Operating plan or agreement for a powerline facility,” “Owner or operator,” “Powerline facility,” and “Vegetation Management”.

The additions and revision read as follows:

2. On page 41392, in the second column, in § 251.51, the definition for “Linear right-of-way” is corrected to read as follows:

Linear right-of-way—an authorized right-of-way for a linear facility, such as a road, trail, pipeline, powerline facility, fence, water transmission facility, or fiber optic cable, whose linear boundary is delineated by its legal description.

3. On page 41394, in the first column, in § 251.56, paragraph (h)(5)(viii)(B) is corrected to read as follows:

§ 251.56 [Corrected]

(h) * * *

(5) * * *

(viii) * * *

(B) Emergency vegetation management. Emergency vegetation management does not require prior written approval from the authorized officer. The owner or operator shall notify the authorized officer in writing of the location and quantity of the emergency vegetation management within 24 hours of initiating the response;

James E. Hubbard,
Under Secretary, Natural Resources and Environment.

[FR Doc. 2020-17462 Filed 8-7-20; 8:45 am]

BILLING CODE 3411-15-P